Title 3—

The President

Proclamation 7312 of May 22, 2000

National Maritime Day, 2000

By the President of the United States of America

A Proclamation

Americans have always looked to the sea as a source of prosperity and security. Bounded by two oceans and the Gulf of Mexico, with the Great Lakes, the Saint Lawrence Seaway, scores of harbors, ports, and inlets, and thousands of miles of inland river shorelines, our Nation has been blessed with an unparalleled means of moving passengers and freight, protecting our freedom, and linking our citizens with the world.

Today, 95 percent of our imports and exports are moved by water—more than one billion metric tons of cargo—and our waterways currently handle 140 million passengers a year. Our domestic fleet is one of our most productive and cost-effective modes of transportation, moving 24 percent of the Nation's cargo at less than 2 percent of America's total freight cost. The men and women of the U.S. Merchant Marine and the thousands of other workers in our Nation's maritime industry have made immeasurable contributions to our economic strength, standard of living, and leadership in the global marketplace.

The U.S. Merchant Marine plays an equally important role in maintaining our national security. In times of conflict or crisis, the Armed Forces rely upon the Merchant Marine's sealift capability to transport critically needed equipment and supplies. Time and again, American mariners have demonstrated their willingness and ability to meet often daunting challenges. From World War II to Korea to Vietnam, from Desert Storm to the Balkans and in numerous incidents in between, the U.S. Merchant Marine has responded with courage, patriotism, and a steadfast devotion to duty.

The 21st century will hold new challenges for our maritime industry, including an anticipated doubling of cargo and passenger traffic in the next two decades. If we are to meet those challenges, we must maintain a robust U.S.-flag fleet, crewed by American mariners. Last September, the Secretary of Transportation presented to the Congress a blueprint for modernizing our Marine Transportation System—the waterways, ports, railways, and roads that move people and goods to, from, and on the water. We must build more and better ships, modernize our shipyards, create deeper ports for today's ever larger containerships and ocean liners, and maintain a skilled maritime workforce. We must also ensure that local, State, and Federal agencies, the U.S. military, the maritime industry, shippers, labor unions, environmental groups, and other concerned organizations work in partnership to carry out this blueprint.

As we celebrate National Maritime Day this year, we also mark the 50th anniversary of the U.S. Maritime Administration. Throughout the past five decades, the dedicated men and women of this agency have worked to improve the competitiveness of our maritime industry in world markets and to strengthen our ability to respond swiftly and effectively in times of crisis. On behalf of a grateful Nation, I salute these outstanding public servants for their commitment to the U.S. Merchant Marine and to the shipbuilding, repair services, ports, and intermodal water and land transportation systems they need to function efficiently.

In recognition of the importance of the U.S. Merchant Marine to our Nation's prosperity and security, the Congress, by a joint resolution approved May 20, 1933, has designated May 22 of each year as “National Maritime Day” and has authorized and requested the President to issue annually a proclamation calling for its appropriate observance.

NOW, THEREFORE, I, WILLIAM J. CLINTON, President of the United States of America, do hereby proclaim May 22, 2000, as National Maritime Day. I urge all Americans to observe this day with appropriate programs, ceremonies, and activities and by displaying the flag of the United States in their homes and in their communities. I also request that all merchant ships sailing under the American flag dress ship on that day.

IN WITNESS WHEREOF, I have hereunto set my hand this twenty-second day of May, in the year of our Lord two thousand, and of the Independence of the United States of America the two hundred and twenty-fourth.

wj

[FR Doc. 00-13499

Filed 5-25-00; 8:45 am]

Billing code 3195-01-P